ELECTION ASSISTANCE COMMISSION

Proposed Information Quality Guidelines Policy

AGENCY: U.S. Election Assistance Commission (EAC).

ACTION: Notice and request for public comment on Proposed Information Quality Guidelines Policy.

SUMMARY: The U.S. Election Assistance Commission (EAC) seeks public comment on the Proposed Information Quality Guidelines policy. The policy outlines the EAC's directives and required procedures to implement the OMB Guidelines for Ensuring and Maximizing the Quality, Objectivity, Utility, and Integrity of Information Disseminated by Federal Agencies, 67 FR 8452 (“OMB Guidelines”). The EAC developed the Proposed Information Quality Guidelines to meet its obligations under the OMB Guidelines and to codify its high standards of quality in the production of information disseminated outside the agency.

DATES: Written comments must be submitted on or before 4 p.m. EDT on April 30, 2010.

Comments: Public comments are invited on the information contained in the policy. Comments on the proposed policy should be submitted electronically to HAVAinfo@eac.gov. Written comments on the proposed policy can also be sent to the U.S. Election Assistance Commission, 1201 New York Avenue, NW., Suite 300, Washington, DC 20005, ATTN: Proposed Information Quality Guidelines Policy.

Obtaining a Copy of the Policy: To obtain a free copy of the policy: (1) Access the EAC Website at http://www.eac.gov; (2) write to the EAC (including your address and phone number) at U.S. Election Assistance Commission, 1201 New York Avenue, NW., Suite 300, Washington, DC 20005, ATTN: Information Quality Guidelines.

FOR FURTHER INFORMATION CONTACT: Ms. Tamar Nedzar, Ms. Karen Lynn-Dyson or Ms. Shelly Anderson at (202) 566-3100.

Thomas R. Wilkey,
Executive Director, U.S. Election Assistance Commission.

[FR Doc. 2010-7134 Filed 3-30-10; 8:45 am]

BILLING CODE 6820-KF-P